DEPARTMENT OF VETERANS AFFAIRS

[OMB Control No. 2900-0674]

Agency Information Collection Activity: Notice of Disagreement: Appeal to the Board of Veterans' Appeals

AGENCY: Board of Veterans' Appeals, Department of Veterans Affairs.

ACTION: Notice.

SUMMARY: The Board of Veterans' Appeals, Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before October 22, 2018.

ADDRESSES: Submit written comments on the collection of information through Federal Docket Management System (FDMS) at www.Regulations.gov or to Sue Hamlin, BVA, (01C2), Department of Veterans Affairs, 810 Vermont Avenue NW, Washington, DC 20420 or email to sue.hamlin@va.gov. Please refer to “OMB Control No. 2900-0674” in any correspondence. During the comment period, comments may be viewed online through FDMS.

FOR FURTHER INFORMATION CONTACT: Sue Hamlin at (202) 632-5100.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, BVA invites comments on: (1) Whether the proposed collection of information is necessary for the proper performance of BVA's functions, including whether the information will have practical utility; (2) the accuracy of BVA's estimate of the burden of the proposed collection of information; (3) ways to enhance the quality, utility, and clarity of the information to be collected; and (4) ways to minimize the burden of the collection of information on respondents, including through the use of automated collection techniques or the use of other forms of information technology.

Authority: Public Law 115-55; 38 U.S.C. 5104B, 5108, 5701, 5901, 7103, 7104, 7105, 7107.

Title: Notice of Disagreement (NOD)/Appeal to the Board of Veterans' Appeals, VA Form 10182 and VA Form 9.

OMB Control Number: 2900-0674.

Type of Review: Revision of a currently approved collection.

Abstract: Appellate review of the denial of VA benefits may only be initiated by filing a Notice of Disagreement with the Board. 38 U.S.C. 7105(a). The VA Form 9, “Appeal to Board of Veterans' Appeals,” is required to complete a legacy appeal to the Board. The completed form becomes the “substantive appeal” (or “formal appeal”), which is required by 38 U.S.C. 7105(a) and (d)(3) in order to complete an appeal to the Board. Additionally, the proposed information collections allow for withdrawal of services by a representative, requests for changes in hearing dates and methods under 38 U.S.C. 7107, and motions for reconsideration pursuant to 38 U.S.C. 7103(a). The Board is requesting to revise the currently approved OMB Control No. 2900-0674, adding four information collections previously approved under OMB Control No. 2900-0085, and one new information collection. Revised Control No. 2900-0674 would contain all appeals-related information collections for the legacy and new systems. 2900-0085 will be discontinued upon approval of this request to renew 2900-0674.

Affected Public: Individuals and households.

Estimated Annual Burden: 114,877.78 hours.

Estimated Average Burden per Respondent: 40.83 minutes.

Frequency of Response: Once.

Estimated Number of Respondents: 168,800.

By direction of the Secretary.
Cynthia D. Harvey-Pryor,
Department Clearance Officer, Office of Quality, Privacy and Risk, Department of Veterans Affairs.

[FR Doc. 2018-18189 Filed 8-22-18; 8:45 am]

BILLING CODE 8320-01-P